COMMISSION ON CIVIL RIGHTS

Sunshine Act Meeting Notice

AGENCY: Commission on Civil Rights.

ACTION: Notice of meeting.

SUMMARY: In accordance with the Government in Sunshine Act, the Commission on Civil Rights is holding a meeting to discuss the Commission's business for the month of June.

DATES: Friday, June 16, 2023, 10 a.m. EST.

ADDRESSES: Meeting to take place virtually and is open to the public via livestream on the Commission's YouTube page: https://www.youtube.com/user/USCCR/videos.

FOR FURTHER INFORMATION CONTACT: Angelia Rorison: 202-376-8371; publicaffairs@usccr.gov.

SUPPLEMENTARY INFORMATION: This business meeting is open to the public. Computer assisted real-time transcription (CART) will be provided. The web link to access CART (in English) on Friday, June 16, 2023, is https://www.streamtext.net/player?event=USCCR. Please note that CART is text-only translation that occurs in real time during the meeting and is not an exact transcript.

Meeting Agenda

I. Approval of Agenda

II. Business Meeting

A. Discussion and Vote on Presidential Designation of Commissioner Rochelle Mercedes Garza as Chairperson and Victoria Frances Nourse as Vice Chair of the U.S. Commission on Civil Rights

III. Adjourn Meeting

Dated: May 10, 2023.
Angelia Rorison,
USCCR Media and Communications Director.

[FR Doc. 2023-12640 Filed 6-8-23; 4:15 pm]

BILLING CODE 6335-01-P